DEPARTMENT OF COMMERCE

National Oceanic and Atmospheric Administration

[RTID 0648-XE806]

Endangered and Threatened Species; Take of Anadromous Fish

AGENCY: National Marine Fisheries Service (NMFS), National Oceanic and Atmospheric Administration (NOAA), Commerce.

ACTION: Notice of issuance of 33 scientific research permits.

SUMMARY: Notice is hereby given that NMFS has issued 33 scientific research permits under the Endangered Species Act (ESA) to the individuals and organizations listed in table 1. The research is intended to increase knowledge of species listed under the ESA and to help guide management and conservation efforts.

ADDRESSES: The permits and related documents are available for review upon written request via email to nmfs.wcr-apps@noaa.gov (please include the permit number in the subject line of the email).

FOR FURTHER INFORMATION CONTACT: Robert Clapp, phone: 503-231-2314, email: Robert.Clapp@noaa.gov.

SUPPLEMENTARY INFORMATION: Notice was published in the Federal Register on the dates listed below that requests for permits and permit modifications had been submitted by the below-named applicants. To locate the Federal Register notice that announced our receipt of the applications and a complete description of the research, go to https://www.federalregister.gov and search on the permit number and Federal Register notice information provided in the table below.

Table 1—Issued Permits and Permit Modifications
Permit No. | RTID | Applicant | Previous Federal Register notice | Issuance date
1127-7R | 0648-XD746 | Shoshone-Bannock Tribes, P.O. Box 306, Fort Hall, Idaho 83203 (Responsible party: Joseph W. Snapp) | 89 FR 14438; February 27, 2024 | April 15, 2024.
1410-14R | 0648-XD746 | NMFS Northwest Fisheries Science Center; 2725 Montlake Blvd. East, Seattle, WA 98112 (Responsible party: Brian J. Burke) | 89 FR 14438; February 27, 2024 | April 10, 2024.
1484-8R | 0648-XD746 | Washington Department of Natural Resources Pacific Cascade Region; 601 Bond Rd., P.O. Box 280, Castle Rock, WA 98501 (Responsible party: Scott Sargent) | 89 FR 14438; February 27, 2024 | April 10, 2024.
14046-5R | 0648-XD746 | King County Department of Natural Resources and Parks; 201 S. Jackson St., Suite 600, Seattle, WA 98104 (Responsible party: Chris Gregersen) | 89 FR 14438; February 27, 2024 | April 17, 2024.
15207-5R | 0648-XD746 | Amnis Opes Institute, LLC; 21112 Limestone Ave., Bend, OR 97703 (Responsible party: Jason Adams) | 89 FR 14438; February 27, 2024 | April 15, 2024.
16344-4R | 0648-XD746 | Oregon State University; Nash Hall 226, Dept of Microbiology, Corvallis, OR 97331 (Responsible party: Sascha L. Hallett) | 89 FR 14438; February 27, 2024 | April 10, 2024.
18260-3R | 0648-XD746 | Confederated Tribes of the Warm Springs Reservation; P.O. Box C, Warm Springs, OR 97761 (Responsible party: Lyman Jim) | 89 FR 14438; February 27, 2024 | April 12, 2024.
18331-3R | 0648-XD746 | Wild Fish Conservancy; P.O. Box 402, Duvall, WA 98019 (Responsible party: Emma Helverson) | 89 FR 14438; February 27, 2024 | April 22, 2024.
22003-3R | 0648-XD746 | King County Department of Natural Resources and Parks; 201 S. Jackson St., Suite 600, Seattle, WA 98104 (Responsible party: Chelsea Mitchell) | 89 FR 14438; February 27, 2024 | April 11, 2024.
22319-3R | 0648-XD746 | Herrera Environmental Consultants; 2200 Sixth Ave., Suite 1100, Seattle, WA 98121 (Responsible party: Nick Bartish) | 89 FR 14438; February 27, 2024 | April 11, 2024.
22865-2R | 0648-XD746 | U.S. Forest Service; 215 Melody Lane, Wenatchee, WA 98801 (Responsible party: Gene Shull) | 89 FR 14438; February 27, 2024 | April 15, 2024.
26300 | 0648-XD746 | Fishery Foundation of California; 347 Edwards St., Crockett, CA 94525 (Responsible party: Kari Burr) | 89 FR 14438; February 27, 2024 | April 10, 2024.
27619 | 0648-XD746 | Scott River Water Trust; 9933 S. State Highway 3, Callahan, CA 96027 (Responsible party: Chris B Voigt) | 89 FR 14438; February 27, 2024 | April 10, 2024.
27869 | 0648-XD746 | U.S. Fish and Wildlife Service; 510 Desmond Dr. SE 102, Lacey, WA 98503 (Responsible party: Regan McNatt) | 89 FR 14438; February 27, 2024 | April 11, 2024.
27874 | 0648-XD746 | California Department of Fish and Wildlife; 1010 Riverside Parkway, Sacramento, CA 95605 (Responsible party: Jonathan David Nelson) | 89 FR 14438; February 27, 2024 | April 10, 2024.
28047 | 0648-XD746 | U.S. Forest Service—PNW Research Station; 3200 S.W. Jefferson Way, Corvallis, OR 97331 (Responsible party: Brooke E Penaluna) | 89 FR 14438; February 27, 2024 | February 13, 2024.
1386-11M | 0648-XE166 | Washington Department of Ecology; 300 Desmond Dr, Lacey, WA 98504 (Responsible party: Annette Hoffmann) | 89 FR 64880; August 8, 2024 | October 7, 2024.
15205-5R | 0648-XE166 | Kwiaht (Center for the Historical Ecology of the Salish Sea); P.O. Box 415, Lopez Island, WA 98261 (Responsible party: Russel Barsh) | 89 FR 64880; August 8, 2024 | October 15, 2024.
1523-5R | 0648-XE166 | National Council for Air and Stream Improvements (NCASI); 1219 Q Ave., P.O. Box 1259, Anacortes, WA 98221 (Responsible party: Camille Flinders) | 89 FR 64880; August 8, 2024 | October 10, 2024.
15230-4R | 0648-XE166 | West Fork Environmental, Inc.; 2350 Mottman Rd. SW, P.O. Box 4455, Olympia, WA 98501 (Responsible party: N. Phil Peterson) | 89 FR 64880; August 8, 2024 | October 4, 2024.
16298-5R | 0648-XE166 | Shoshone-Bannock Tribes Fisheries Department; P.O. Box 306, Fort Hall, ID 83203 (Responsible party: Kurt Tardy) | 89 FR 64880; August 8, 2024 | October 7, 2024.
17761-3R | 0648-XE166 | East Bay Municipal Utility District; 1 Winemasters Way, Lodi, CA 95240 (Responsible party: Casey Del Real) | 89 FR 64880; August 8, 2024 | January 1, 2025.
18852-3R | 0648-XE166 | USFWS Mid-Columbia Fish and Wildlife Conservation District; 7501 Icicle Rd., Leavenworth, WA 98826 (Responsible party: William Gale) | 89 FR 64880; August 8, 2024 | October 15, 2024.
18921-3R | 0648-XE166 | Samish Indian Nation, Department of Natural Resources; P.O. Box 217, Anacortes, WA 98221 (Responsible party: Kimberlee Anderson) | 89 FR 64880; August 8, 2024 | December 23, 2024.
19263-3R | 0648-XE166 | Idaho Department of Fish and Game; 600 S. Walnut, P.O. Box 25, Boise, ID 83707 (Responsible party: Lance Hebdon) | 89 FR 64880; August 8, 2024 | October 25,2024.
23629-2R | 0648-XE166 | U.S. Geological Survey; 3200 S.W. Jefferson Way, Corvallis, OR 97331 (Responsible party: Collin Eagles-Smith) | 89 FR 64880; August 8, 2024 | December 13, 2024.
23843-2R | 0648-XE166 | Skagit River System Cooperative; 11426 Moorage Way, La Conner, WA 98257 (Responsible party: Michael LeMoine) | 89 FR 64880; August 8, 2024 | December 30, 2024.
26776 | 0648-XE166 | Anchor QEA; 1201 3rd Ave., Suite 2600, Seattle, WA 98101 (Responsible party: Michelle A. Havey) | 89 FR 64880; August 8, 2024 | November 5, 2024.
27091-2M | 0648-XE166 | Port of Seattle; P.O. Box 1209, Seattle, WA 98111 (Responsible party: Sloan Jon) | 89 FR 64880; August 8, 2024 | December 23, 2024.
28055 | 0648-XE166 | Gold Ridge Resource Conservation District; 2776 Sullivan Rd., Sebastopol, CA 95472 (Responsible party: Brittany Jensen) | 89 FR 64880; August 8, 2024 | October 1, 2024.
28158 | 0648-XE166 | Northwest Straits Foundation; 1155 N. State St., Suite 402, Bellingham, WA 98225 (Responsible party: Jason Morgan) | 89 FR 64880; August 8, 2024 | October 15, 2024.
28199 | 0648-XE166 | Cal Poly Humboldt; 1210 Foster Ave., Apartment A, Arcata, CA 95521 (Responsible party: Olivia Boeberitz) | 89 FR 64880; August 8, 2024 | October 1, 2024.
28292 | 0648-XE166 | City of Portland; 1120 SW 5th Ave., 6th Floor, Portland, OR 97204 (Responsible party: Chad Smith) | 89 FR 64880; August 8, 2024 | December 11, 2024.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et. seq) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: July 17, 2025.
Jennifer Quan,
Regional Administrator, West Coast Region, National Marine Fisheries Service.

[FR Doc. 2025-13711 Filed 7-21-25; 8:45 am]

BILLING CODE 3510-22-P